DEPARTMENT OF LABOR

Office of Disability Employment Policy

[SGA 04-07]

Funding Opportunity: Chronic Homelessness Employment Technical Assistance (CHETA) Initiative; Solicitation for Cooperative Agreement

Announcement Type: Notice of availability of funds; solicitation for Cooperative Agreement applications for Chronic Homelessness Employment Technical Assistance Initiative.

Funding Opportunity Number: (SGA 04-07).

Catalogue of Federal Domestic Assistance (CFDA) Number: 17.720.

Dates: Proposals are due July 26, 2004.

Application and Amendments: If copies of the standard forms are needed, they can be downloaded from http://www.whitehouse.gov/omb/grants/grant_forms.html.

To received amendments to this solicitation (please reference SGA 04-07) all applicants must register their name and address in writing with the Grant Officer at the below listed address.

Cassandra Mitchell, Department of Labor: Procurement Services Center, Room N-5416, 200 Constitution Avenue, NW., Washington, DC 20210; Telephone (202) 693-4570.

Executive Summary: The U.S. Department of Labor (DOL), Office of Disability Employment Policy (ODEP), in cooperation with the Employment and Training Administration (ETA), announces the availability of $1.5 million to fund one (1) Cooperative Agreement award to operate the Chronic Homelessness Employment Technical Assistance (CHETA) Initiative. This $1.5 million award will be for a 36-month period of performance. In addition, this initiative may be funded for up to two (2) additional option years at approximately $500,000 per year, depending on performance, identified need and the availability of future funding.

I. Funding Opportunity Description and Authority

The overall purpose of CHETA is to create a technical assistance capability designed to assist DOL's currently funded “Ending Chronic Homelessness through Employment and Housing” awardees, an initiative cooperatively sponsored by ODEP and the Veterans Employment and Training Service (VETS), meet customized employment-related program goals and to collect and disseminate information on how best to meet the customized employment needs of persons who are chronically homeless. (See the full definition for persons who are chronic homeless and customized employment at the end of this section).

Authority: Consolidated Appropriations Resolution, 2004, Pub. L. 108-7, 117 Stat. 11 (2003).

The ODEP anticipates awarding one cooperative agreement for $1.5 million, for a 36-month period of performance. In addition this initiative may be funded for up to two (2) additional option years at approximately $500,000 per year, depending on performance, identified need, and the availability of future funding. CHETA will primarily support the delivery of intensive employment-related technical assistance services to DOL's five (5) “Ending Chronic Homelessness” awardees identified in this solicitation, and, in turn share what is learned through these grants with other interested entities, especially the workforce development system. In addition, CHETA's technical assistance efforts will help to inform policy efforts in this area of concern.

This ODEP Cooperative Agreement anticipates substantial involvement between ODEP and the awardee during the performance of this project. Involvement will include collaboration or participation by ODEP in the overall direction of the project throughout the period of the award. The ODEP will provide expertise and guidance in decisions involving strategic planning (including development of a proactive plan to deliver technical assistance to the “Ending Chronic Homelessness” awardees), allocation of resources, key personnel decisions, development of public information materials, and analysis and implementation of evaluation findings.

Recently, the DOL (ODEP and VETS), in cooperation with the Department of Housing and Urban Development (HUD), issued a solicitation for cooperative agreement applications, “Ending Chronic Homelessness Through Employment and Housing.” See 68 FR 42818 (July 18, 2003) or visit http://www2.dol.gov/odep/archives/archive.htm. On September 30, 2003, five cooperative agreements were awarded under this competition to the cities of Portland, OR; San Francisco, CA: Los Angeles, CA; Boston, MA; and Indianapolis, IN, see http://www2.dol.gov/odep/media/press/recip.htm, to deliver to persons with disabilities who are chronically homeless customized employment services and permanent housing services through the local One-Stop Career Center System, in collaboration with each city's homeless serving community.

For the last several years (Federal Fiscal Years 2001 and 2002), ODEP has also funded two additional types of customized employment demonstration grants (“Customized Employment” and “WorkFORCE Action”) for persons with significant disabilities. These two grant-funded priorities are unique in that they apply a philosophy of “customizing employment” services, with enhanced coordination of these customized services with multiple partners, especially One-Stop Career Centers. As a result of these additional customized employment grants, improved employment outcomes for persons with disabilities are being realized.

These promising results offer the potential of increased employment outcomes for organizations serving the employment needs of persons who are chronically homeless. In view of this potential, DOL's “Ending Chronic Homelessness” awardees were funded to demonstrate the expanded potential of “customized employment” strategies for people with disabilities who are chronically homeless, in support of two important goals: ending chronic homelessness over the next decade and integrating persons with disabilities into the work force.

The “Ending Chronic Homelessness” Initiative provides an opportunity for DOL and HUD to combine their respective resources and expertise in a joint approach to provide employment and housing services to people with disabilities who are chronically homeless so that they can live and work independently within their communities. Further, these five projects are expected to increase the involvement of the local workforce development system by fostering partnerships with key disability and homeless serving organizations to meet the employment needs of persons with disabilities who are chronically homeless. This effort is therefore precedent setting, because it partners together the housing and workforce development systems, to serve the employment needs of people with disabilities who are chronically homeless.

In order to support these five projects, as well as the systems change that they represent, ODEP and its partners, ETA and VETS, strongly recognize the need for targeted and comprehensive technical assistance to provide direct and proactive support, training, dissemination of information on promising practices, etc., to the “Ending Chronic Homelessness” projects. Therefore, this CHETA initiative is being funded to provide technical assistance to bring together the workforce development system with the homeless-serving community to provide customized employment and permanent housing for people with disabilities who are chronically homeless.

The CHETA Initiative will also help to support the President's New Freedom Initiative. The New Freedom Initiative is designed to increase the number of people with disabilities who enter, re-enter, and/or remain in the workforce. By emphasizing the need to increase the capacity of federally-supported employment and training programs to serve persons who are chronically homeless, this award will further the New Freedom Initiative's goal of increased integration of Americans with disabilities into the workforce.

Recently, the Federal Government through the Interagency Council on Homelessness (http://www.ich.gov) has embarked on a collaborative effort to end chronic homelessness in the next decade. This solicitation supports that initiative by helping the “Ending Chronic Homelessness” awardees and, in turn, the workforce development system, establish and improve the partnerships between the workforce development system and key disability and homeless serving organizations and housing providers, so that the customized employment needs of people with disabilities who are chronically homeless can be met.

In addition, the CHETA Initiative will help support implementation of the coordinated workforce development system envisioned under the Workforce Investment Act of 1998 (WIA) (Public Law 105-220, 29 U.S.C. 2801 et seq.). The WIA established comprehensive reform of existing federal job training programs, consolidating multiple programs into a unified system and bringing multiple federal programs together as required partners in the One-Stop delivery system. The One-Stop Career Centers, which comprise the heart of this system, are well positioned to expand employment opportunities for persons who are disabled and chronically homeless, by helping to ensure that the workforce system is accessible both physically and programmatically.

The ODEP and its partners, ETA and VETS, strongly recognize the need for technical assistance to provide proactive support, training, dissemination of information on effective practices, etc., to the awardees under the “Ending Chronic Homelessness” Initiative. These five awardees need proactive technical assistance and cross-connecting expertise to bring together the workforce development system with the homeless serving community to provide customized employment opportunities and permanent housing for persons with disabilities who are chronically homeless. Accordingly, the broad goals of this CHETA Initiative will be to:

• Provide the five DOL “Ending Chronic Homelessness” awardees with proactive and intensive, ongoing technical assistance support;

• Provide technical assistance on a limited basis to other DOL and HUD grantees involved in related initiatives;

• Inform ODEP about identified policy implications of combining employment-related services with permanent housing services for persons with disabilities who are chronically homeless; and,

• Develop strong linkages between the five project communities and collaborate with other national initiatives providing services and support for persons with disabilities who are chronically homeless.

The five DOL “Ending Chronic Homelessness” awardees to be served under this cooperative agreement are profiled as follows:

• Portland, Oregon. Worksystems, Inc. will organize a coalition of 17 local organizations, including faith based organizations, from the housing, disability, employment, employer and veteran communities, to coordinate permanent housing services with customized employment services in an effort to end the cycle of chronic homelessness for individuals within the Portland community. The key operational component of this project will be the Community Services Team (CST), which will use a strength-based assessment and treatment plans and motivational interviewing to engage individuals in self-determined service planning. The CST will deliver a full array of services in a facilitative manner, eliminating bureaucratic obstacles. Customized employment strategies such as job carving, micro-enterprise development, individual development accounts (ITA's), and peer mentors will be the hallmarks of this advanced effort.

• Boston, Massachusetts. The Boston Private Industry Council will organize a coalition of local organizations from the housing, disability, employment, employer and veteran communities in a combined effort to coordinate permanent housing services with customized employment services so as to end the cycle of chronic homelessness for individuals within the Boston community. Through an extensive collaboration, the project will create a blend of housing and employment services that will be presented in a seamless and coordinated fashion, providing ease of access to consumers. The integration of housing and support services with customized employment services will help program participants more effectively to move towards self-sufficiency over time. The project will build a continuum of employment services. This effort will increase connections and capabilities of the One-Stop Career Centers and of other service systems to serve persons with disabilities who are chronically homeless, resulting in permanent systems change.

• San Francisco, California. Under the leadership of the Private Industry Council of San Francisco, Inc., this award will help the community implement the concept of offering “vocationalized” housing to a representative number of targeted individuals, in order to begin to create a culture of work with the hope of ending the cycle of chronic homelessness for individuals within the San Francisco community by offering new strategies for servicing this rapidly growing population. This effort will seek to better combine and coordinate the multiple services and agencies that deliver vocationalized housing in an effort to improve both the involvement of the area's workforce development system, including the area One-Stop Career Centers, and the employment options for the chronically homeless.

• Indianapolis, Indiana. Under this award, the Indianapolis Private Industry Council, Inc. will create a new “System of Care” approach designed to combine and coordinate the various service delivery partners, including in the employment and housing areas, in a way which offers the consumer no wrong doors for entry into the system. This approach will also organize a process that includes housing developers and employers as direct participants with service providers, consumers and community members to design, implement, manage and fund individual plans of care that support sustainable living with full participation in community life, including through employment. This CHETA Initiative will capitalize on the capabilities and systems changes already realized through two previous DOL employment grants.

• Los Angeles, California. Under the leadership of the Workforce Development Division of the Community Development Department, City of Los Angeles, ten Los Angeles agencies representing the public and private, community-based and faith-based sectors have joined together to better integrate the permanent housing, mental health and other workforce development programs serving persons with disabilities who are both chronically homeless and mentally ill. All partners are committed to improving and enhancing the coordination of activities among agencies that operate emergency shelters, provide support services to the homeless, offer mental health and substance abuse treatment programs, provide permanent, supportive, affordable housing, and develop employment opportunities. Customized employment services will be provided and coordinated with housing and other needed services in order to break the cycle of chronic homelessness.

For purposes of this solicitation, the terms applicable to this DOL Cooperative Agreement are as follows:

• Customized Employment: The term “customized employment” means individualizing the employment relationship between employees and employers in ways that meet the needs of both. It is based on an individualized determination of strengths, needs, and interests of the person with a disability and is also designed to meet the specific needs of the employer. It may include approaches such as supported employment; supported entrepreneurship; individualized job development; job carving and restructuring; use of personal agents (including individuals with disabilities and family members); development of micro-boards, micro-enterprises, cooperatives and small businesses; and use of personal budgets and other forms of individualized funding that provide choice and control to the person and promote self-determination. These and other job development or restructuring strategies result in job responsibilities that are customized and individually negotiated to fit the needs of individuals with disabilities. Customized employment assumes the provision of reasonable accommodations and supports necessary for the individual to perform the functions of a job that is individually negotiated and developed.

• Persons who are Chronically Homeless: A person who is “chronically homeless” is an unaccompanied homeless individual with a disabling condition who has either been continuously homeless for a year or more, OR who has had at least four (4) episodes of homelessness in the past three (3) years. In order to be considered chronically homeless, a person must have been sleeping in a place not meant for human habitation (e.g., living on the streets) and/or in an emergency homeless shelter. A disabling condition is defined as a diagnosable substance use disorder, serious mental illness, developmental disability, or chronic physical illness or disability including the co-occurrence of two or more of these conditions. A disabling condition limits an individual's ability to work or perform one or more activities of daily living.

II. Award Information

The U.S. Department of Labor (DOL), Office of Disability Employment Policy (ODEP), in cooperation with the Employment and Training Administration (ETA), announces the availability of $1.5 million to fund one (1) Cooperative Agreement award to operate the Chronic Homelessness Employment Technical Assistance (CHETA) Initiative, designed to assist DOL's currently funded “Ending Chronic Homelessness through Employment and Housing” awardees, an initiative cooperatively sponsored by ODEP and the VETS. This $1.5 million award will be for a 36-month period of performance. In addition, this initiative may be funded for up to two (2) option years at approximately $500,000 per year, depending on performance, identified need, and the availability of future funding. This cooperative agreement will include substantial involvement between ODEP and the awardee during the period of performance. ODEP will provide project oversight throughout the period of the award. The ODEP will be involved in decisions involving strategic planning (including the plan to deliver pro-active technical assistance to the “Ending Chronic Homelessness” grantees), allocation of resources, development of public information materials, and analysis and implementation of evaluation findings.

III. Eligibility Information

1. Eligible Applicants

Eligible applicants for this DOL Cooperative Agreement are public/private non-profit or for profit organizations or consortia, including faith-based and community organizations, with appropriate capabilities, experience, and expertise. If the proposal includes multiple consortia members, there must be a prime or lead member who is the responsible fiscal and programmatic agent. All applications must (1) clearly identify the lead grant recipient and fiscal agent, as well as all other members of the consortium applying for this cooperative agreement award; (2) provide a clear description of each member's roles and responsibilities; and (3) provide a detailed plan for how the award money will be allocated among the consortium. As a Department of Labor-funded initiative, it is expected that the lead grant recipient for any such consortium shall have primary expertise in employment-related areas.

2. Cost Sharing

Cost sharing and matching funds are not required under this SGA.

IV. Application and Submission Information

1. Address To Request Application

Applications, announcements, or forms will not be mailed. The Federal Register may be obtained from your nearest government office or library. In addition, a copy of this notice and the application requirements may be downloaded from the Office of Disability Employment Policy Web site at http://www.dol.gov/odep and at http://www.fedgrants.gov. If additional copies of the standard forms are needed, they can also be downloaded from: http://www.whitehouse.gov/omb/grants/grantforms.html.

2. Content and Form of Application Submission

General Requirements: To be considered responsive, all applications must be submitted on time to DOL at the address listed above. Applicants must submit one (1) paper copy with an original signature, and two (2) additional paper copies of the signed proposal. To aid with the review of applications, DOL also requires applicants to submit an electronic copy of their proposal's Sections II (Executive Summary) and III (Project Narrative) on compact disc (CD) or floppy disc using Microsoft Word. The application must be double-spaced with standard one-inch margins (top, bottom, and sides) on 8½ x 11 paper, and must be presented on single-sided and numbered pages. A font size of at least twelve (12) pitch is required throughout. All text in the application narrative, including titles, headings, footnotes, quotations, and captions, as well as all text in charts, tables, figures, and graphs must be double-spaced (no more than three lines per vertical inch); and, if using a proportional computer font, must be in at least a 12-point font, and must have an average character density no greater than 18 characters per inch (if using a non-proportional font or a typewriter, must not be more than 12 characters per inch). Applications that fail to meet these requirements will be considered non-responsive.

DOL Cooperative Agreement Requirements: The three required sections of the application are:

Section I—Project Financial Plan

Section II—Executive Summary—Project Synopsis

Section III—Project Narrative

Applications that fail to meet the mandatory requirements for each section stated below will be considered non-responsive:

• Section I. Project Financial Plan (Budget) (The Project Financial Plan will not count against the application page limits.) Section I of the application must include the following three required parts:

(a) Completed “SF-424—Application for Federal Assistance.”

The DOL Cooperative Agreement application must include one SF-424 with the original signatures of the legal entity applying for Cooperative Agreement funding and two additional copies. The individual signing the SF-424 on behalf of the applicant must represent and be able to legally bind the responsible financial and administrative entity for a Cooperative Agreement should that application result in an award. Applicants shall indicate on the SF-424 the organization's IRS Status, if applicable. Under the Lobbying Disclosure Act of 1995, Section 18 (29 U.S.C. 1611), an organization described in Section 501(c)(4) of the Internal Revenue Code of 1986 that engages in lobbying activities will not be eligible for the receipt of federal funds constituting an award, cooperative agreement, or loan. See 2 U.S.C. 1611; 26 U.S.C. 501(c)(4). For item 10 of the SF-424, the Catalog of Federal Domestic Assistance (CFDA) number for the program is 17.720. (See Appendix A of this SGA for required form). The organization unit section of Block 5 of the SF-424 must contain the Dun and Bradstreet Number of the applicant. Please note that beginning October 1, 2003, all applicants for federal grant opportunities are required to include a Dun and Bradstreet (DUNS) number with their application. See OMB Notice of Final Policy Issuance, 68 FR 38402 (June 27, 2003). Applicants' DUNS numbers should be entered into Block 5 of SF-424. The DUNS number is a nine-digit identification number that uniquely identifies business entities. There is no charge for obtaining a DUNS number (although it may take 14-30 days). To obtain a DUNS number, access the following Web site: http://www.dunandbradstreet.com/ or call 1-866-705-5711. Requests for exemption from the DUNS number requirement must be made to OMB.

(b) Completed SF-424 A—“Budget Information Sheet” (Appendix B) must be included.

(c) DOL Budget Narrative and justification that provides sufficient information to support the reasonableness of the costs included in the budget in relation to the service strategy and planned outcomes, including continuous improvement activities. The DOL Budget Narrative and Justification must describe all costs associated with implementing the project that are to be covered with Cooperative Agreement funds. The applicant must support the travel and associated costs of sending at least one representative to periodic meetings with DOL staff in Washington, DC (at least once per quarter) and to the annual ODEP Policy Conference for its grantees, to be held in Washington, DC at a time and place to be determined. The applicant must comply with the “Uniform Administrative Requirements for Grants and Cooperative Agreements to State and Local Governments,” (also known as OMB Circular A-102”), codified at 29 CFR part 97, or “Grants and Agreements with Institutions of Higher Education, Hospitals, and Other Non-Profit Organizations” (also known as the “Common Rule” or OMB Circular A-110), codified at 29 CFR part 95 and must comply with the applicable OMB cost principles circulars, as identified in 29 CFR 95.27 and 29 CFR 97.22(b).

In addition, the DOL budget must include, on a separate page, a detailed cost analysis of each line item. Justification for administrative costs must be provided. Approval of a budget by DOL is not the same as the approval of actual costs. The applicant must also include the Assurances and Certifications Signature Page (Appendix C) and the Survey on Ensuring Equal Opportunity for Applicants (Appendix D).

• Section II. Executive Summary—Project Synopsis: The Executive Summary is limited to no more than two single-spaced, single-sided pages on 8½ x 11 papers with standard margins throughout. Each application shall include a project synopsis that identifies the following:

(a) The applicant;

(c) The planned period of performance;

(d) The list of partners, as appropriate; and,

(e) An overview of how the applicant will provide the technical assistance and manage the repository of knowledge developed.

• Section III. Project Narrative. The DOL Cooperative Agreement Project Narrative is limited to no more than thirty (30), 8½ x 11 pages, double-spaced with standard one-inch margins (top, bottom, and sides), and must be presented on single-sided, numbered pages. [Note: The Financial Plan, the Executive Summary, and the Appendices, including letters of cooperation, resumes, etc., are not included in this thirty-page limit]. It also requested that one (1) Micro Soft Word copy on a Computer Disk of the Project Narrative Section be submitted along with the three copies required. The requirements for the project narrative are described below under Part V—Application Review Information.

3. Submission Dates and Times (Acceptable Methods of Submission)

Applications will be accepted commencing June 10, 2004. The closing date for receipt of applications by DOL under this announcement is July 26, 2004. Applications, including those hand-delivered, must be received by 4:45 p.m. (e.t.) on July 26, 2004, at the address specified below. No exceptions to the mailing and hand-delivery conditions set forth in this notice will be granted. Applications that do not meet the conditions set forth in this notice will be considered non-responsive.

Applications must be mailed or hand-delivered to: U.S. Department of Labor, Procurement Services Center, Attention: Cassandra Mitchell, Reference SGA 04-07, Room N-5416, 200 Constitution Avenue, NW., Washington, DC 20210. Telefascimile (FAX) applications will not be accepted.

Withdrawal of Applications. An application that is timely submitted may be withdrawn by written notice or telegram (including mailgram) at any time before an award is made. Applications may be withdrawn in person by the applicant or by an authorized representative thereof, if the representative's identity is made known and the representative signs a receipt of the proposal.

Hand-Delivered Proposals. It is preferred that applications be mailed at least five days prior to the closing date. To be considered for funding, hand-delivered applications must be received by 4:45 p.m. (e.t.) on July 26, 2004, at the specified address. Failure to adhere to the above instructions will serve as a basis for a determination of non-responsiveness. Overnight express mail from carriers other than the U.S. Postal Service will be considered hand-delivered applications and must be received by the above specified date and time.

4. Intergovernmental Review

This funding opportunity is not subject to Executive Order 12372, “Intergovernmental Review of Federal Programs.”

5. Funding Restrictions

• Funding Levels—The total funding available for this solicitation is $1.5 million. Only one award will be made. The Department of Labor reserves the right to negotiate the amount to be awarded under this competition. Please be advised that requests exceeding the $1.5 million will be considered non-responsive. Further there will be no reimbursement of pre-award costs.

• Period of Performance—The period of performance will be for a 36-month period of performance from date of the award unless modified. It is expected that the successful applicant will begin program operations under this solicitation immediately upon receiving the “Notice of Award.”

• Option Year Funding—In addition, this initiative may be funded for up to two (2) additional option years at approximately $500,000 per year, depending on performance, identified need and the availability of future funding. Since federal funds for years four (4) and five (5) will depend on Congressional funding for those fiscal years, these option years will only be executed, assuming other conditions are satisfactory to ODEP, one year at a time. Applications under this SGA should include general proposals and budgets for these two option years.

• Limitation on Indirect Costs—Indirect costs claimed by the applicant must be based on a federally approved rate. A copy of the negotiated approved, and signed indirect cost negotiated agreement must be submitted with the application. If the application does not presently have an approved indirect cost rate, a proposed rate with justification may be submitted. The successful applicant will be required to negotiate an acceptable and allowable rate with the appropriate DOL Regional Office of Cost Determination within 90 days of the cooperative agreement award.

6. Other Submission Requirements

Applicants are advised that mail in the Washington, DC area may be delayed due to mail decontamination procedures and may wish to take this information into consideration when preparing to meet the application deadline.

Late Applications. Any application received after the exact date and time specified for receipt at the office designated in this notice will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped, or otherwise placed impression (exclusive of a postage meter machine impression) that is readily identifiable without further action, as having been supplied or affixed on the date of mailing by an employee of the U.S. Postal Service.

V. Application Review Information

1. Program Criteria

The “primary objectives” of this technical assistance initiative are to:

• Provide comprehensive, pro-active technical assistance, training and on-site support to the five awardees under the DOL (ODEP, ETA, VETS) and HUD “Ending Chronic Homelessness” Cooperative Agreement awards described above, including assistance with:

(a) Strategic planning and implementation;

(b) Development of partnerships and linkages with other disability and homeless serving organizations;

(c) Coordination and leveraging of multiple resources and funding streams;

(d) Recruitment;

(e) Capacity-building, technical training and grant-specific assistance on implementation of customized employment strategies within a One-Stop Career Center;

(f) Assistance with sustainability and evaluation;

(g) Identification of state and local practice and policy issues; and

(h) Sponsorship of periodic combined technical assistance meetings for all five of the awardees.

These areas of technical assistance are designed to increase customized employment opportunities for people who are chronically homeless through One-Stop Career Centers. Technical assistance efforts will be coordinated with and will complement those of ODEP's National Center on Workforce and Disability for Adults (NCWD/A), as well as ODEP's other technical assistance efforts, including: the National Consortium on Workforce and Disability for Youth (NCWD/Y), Training and Technical Assistance for Providers (T-TAP), Job Accommodation Network (JAN), and Employer Assistance Referral Network (EARN). In addition, the awardee must agree to actively utilize the programs sponsored by the ODEP, including the Job Accommodation Network (http://www.jan.icdi.wvu.edu/links/), and the Employer Assistance Referral Network (http://www.earnworks.com).

• Develop a repository of expert knowledge and materials on promising practices and resources supporting the delivery of customized employment services to persons with disabilities who are chronically homeless through the workforce development systems, especially One-Stop Career Centers; and to disseminate this information to other DOL and HUD programs interested in similar initiatives through a Web-based technical assistance initiative;

• Collect and process employment policy-related information for ongoing feedback to ODEP; and, otherwise support ODEP and as requested in their efforts to advance policies which increase employment, personal choice, and wages for people who are chronically homeless;

• Develop strong linkages and collaborate with other national federal initiatives that provide services and supports for people who are chronically homeless in order to better coordinate efforts among the various initiatives.

In order to accomplish these “primary objectives”, the CHETA Initiative must pursue the following “activities”:

• Provide pro-active technical assistance, training, information assistance and knowledge transfer to each of the grantees under ODEP's “Ending Chronic Homelessness through Employment and Housing” cooperative agreements, in order to increase the awardees' capabilities and performance in securing customized employment for people who are chronically homeless. The CHETA Initiative will:

(a) Conduct a needs assessment of the five (5) “Ending Chronic Homelessness” awardees to determine the type and details of technical assistance that is necessary for these cooperative agreements to meet their goals and objectives;

(b) In cooperation with the “Ending Chronic Homelessness” awardees and with DOL's approval, prepare and implement a site-specific strategic planning, technical assistance and training plan for each awardee with projected timelines for delivering needed technical assistance;

(c) Review project applications, quarterly reports, and other documentation to identify potential areas of support;

(d) Identify, on an ongoing basis, materials and resources for use by the awardees;

(e) Conduct a minimum of two (2) technical assistance site visits per year per awardee; conduct a minimum of one (1) national or regional training per year for all awardees;

(f) Conduct monthly teleconferences with the “Ending Chronic Homelessness” awardees to facilitate knowledge transfer and networking among the awardees;

(g) Respond to “Ending Chronic Homelessness” awardees’ requests for expert assistance by sponsoring and arranging on-site, phone, e-mail consultations, or other appropriate forms of knowledge-transfer.

These technical assistance efforts should be flexible so as to allow for the use of any necessary outside consultants who possess expertise beyond the capabilities of the CHETA staff.

• Provide a repository of information, primarily via electronic means (Web-based, e-mail messages, other distance learning and knowledge transfer techniques), on relevant training and technical assistance materials that are both collected and developed in order to meet CHETA's first program objective. This repository of information is to be shared with other interested organizations and agencies.

• Collect employment policy-related information for ongoing feedback to ODEP on policies and practices at the local, state and national level that act both as barriers and facilitators to securing customized employment for the targeted group. This information will be analyzed by ODEP and shared with appropriate DOL agencies for their consideration.

• Support ODEP, as requested, in its efforts to increase employment, personal choice, and wages for people who are chronically homeless through the workforce development system, including by responding to requests for information, analysis, and other assistance from ODEP; by researching, collecting, and disseminating information from states concerning effective and meaningful participation of people who are chronically homeless in One-Stop Centers; and by evaluating project goals, objectives, and activities to determine the effectiveness of project strategies and the overall impact of technical assistance, training, and information services.

• Develop linkages and collaborate working relationships with other associated federal technical assistance (T/A) initiatives, such as ODEP's five national T/A efforts (National Center on Workforce and Disability for Adults, National Collaborative for Workforce and Disability for Youth, Training and Technical Assistance for Providers, Job Accommodation Network, and the Employer Assistance Referral Network), as well as with other related federally-funded T/A initiatives, such as ETA's Technical Assistance and Evaluation Provider for the Work Incentive Grants and Disability Program Navigator Initiative projects (ETA's Division of Disability and Workforce Programs); Substance Abuse and Mental Health Services Administration's (SAMHSA's) T/A Center for PATH grants; and, VETS' National Veterans Training Institute (NVTI) Center. In addition, coordinate training and technical assistance efforts in ways that utilize or complement other related grant programs, such as ODEP's Customized Employment Grant program, ETA's Work Incentive Grant (WIG's) program, VETS Homeless Veterans Reintegration Program (HVRP) grants, Centers for Medicaid and Medicare Services Medicaid Infrastructure Grants, state level Medicaid Buy-In programs, and other federal and state related disability employment supports grant programs.

2. Panel Review Criteria

Applications will be reviewed for compliance with the requirements of this notice. A careful evaluation of applications will be made by a technical review panel, which will evaluate the applications against the rating criteria listed below. The panel results are advisory in nature and not binding on the Grant Officer. DOL may elect to award grants with or without discussion with the offeror. In situations without discussions, an award will be based on the offeror's signature on the SF-424, which constitutes a binding offer. The Grant Officer may consider any information that is available and will make final award decisions based on what is most advantageous to the Government, considering such factors as panel findings and availability of funds. In review of applications, proposals will be evaluated under the following evaluation criteria.

A. Project Design and Project Management (50 Points)

Under this section, the applicant must describe the project design and its management plan. The proposed project design must address how the applicant intends to respond to “primary objectives” and “activities” listed above in this Section. Also, under this section, the applicant must describe how the applicant will address the following DOL priorities for fiscal year 2004:

(1) Increase the availability of skills training, employment opportunities, and career advancement for persons with disabilities who are chronically homeless; and

(2) Develop comprehensive One-Stop Career Centers, that are welcoming and valued by customers who are chronically homeless seeking workforce assistance through ensuring availability of staff trained on homeless issues.

Applicants must also provide a detailed management plan that identifies the critical activities, time frames, and responsibilities for effectively implementing the project, including staff organization and management and the evaluation process for assuring successful implementation of Cooperative Agreement objectives. The management plan will be evaluated to determine whether the applicant has developed an adequate plan that to:

• Effectively carry out the goals and objectives of the proposed initiative, on time and within budget;

• Describe the predicted outcomes resulting from activities funded under the cooperative agreement; and

• Identify methods for gaining and incorporating customer and consumer feedback (both from the five chronically homelessness grantee programs to be served by CHETA, as well as from the homeless persons with disabilities they serve) that will be used by the applicant to make program adjustments and to determine success.

B. Staff Capacity (30 Points)

The applicant must describe the proposed staffing of the DOL CHETA Cooperative Agreement Initiative, including the key personnel and the roles each will play, their time commitments and the responsibilities each will assume. The applicant must also identify how it will ensure that trained and experienced staff or consultants will be available with the following expertise:

(1) Demonstrated knowledge of/experience with diverse customized employment strategies, including individualized approaches to identification of strengths, needs and interests of the individual; customized employment planning; job development and negotiation; and development/use of micro-enterprises, self-employment, cooperatives and small businesses;

(2) Demonstrated knowledge of/experience with various forms of self-directed accounts that provide personal control, choice and assistance to the individual including but not limited to Individual Training Accounts (ITA's), Individual Development Accounts (IDA's), and individual budgets;

(3) Demonstrated knowledge of diverse disabilities, especially persons with disabilities who are chronically homeless and mentally ill, substance abusers, and those who have veteran status;

(4) Demonstrated knowledge of and experience with workforce development systems, particularly One-Stop Career Centers and their administrative structures;

(5) Demonstrated knowledge of /experience with community-based strategic planning, methods for achieving sustainability of programs, development of essential partnerships (including WIA required and non-required partnerships) and systems change strategies, including strategies necessary for innovative blending of resources to achieve customized employment;

(6) Demonstrated knowledge of other employment-related support services and programs especially Medicaid, transportation, SSI, and SSDI; and

(7) Demonstrated knowledge of/experience in successful delivery of technical assistance and knowledge transfer.

The staffing/consultant plan should:

(1) Summarize the qualifications, including relevant education, training, and experience of both key project personnel and project consultants or subcontractors. Attach copies of resumes in the Appendices.

(2) Describe the experience in serving persons with disabilities who are chronically homeless and in providing customized employment services.

(3) Describe the proposed staff/consultant's experience in providing employment-related technical assistance and knowledge transfer to diverse audiences relevant to this solicitation.

(4) Describe the extent to which the time commitments of the project director and other key project personnel are appropriate and adequate to meet the objectives of the proposed project; and how key personnel and consultants will be managed.

(5) Describe plans for recruiting persons with disabilities for employment, as well as in key consulting roles.

C. Evaluation and Continuous Improvement Strategies (10 Points)

The proposal must demonstrate how the goals, objectives, tasks and outcomes to be achieved by the proposed project are clearly specified and measurable; the extent to which performance feedback and continuous improvement are integral to the design of the proposed project; and the extent to which the applicant encourages involvement of people with disabilities and their families, experts and organizations, and other relevant stakeholders in project activities that lead to stronger evaluation and continuous improvement strategies. The proposal will be evaluated on:

(1) The extent to which the design of the proposed project is appropriate to, and will successfully address, the technical assistance needs to be met and other identified needs;

(2) The extent to which the design of the proposed project provides clear understanding of, and experience with, utilization of customized employment strategies for increasing employment, choice, and earnings of persons with disabilities, including those who are chronically homeless;

(3) The extent to which the management plans for project implementation is likely to achieve the objectives of the proposed project on time and within budget; and

(4) The extent to which the proposed project design features innovative strategies to deliver the required technical assistance supports and achieve sustainable knowledge transfer across project activities.

D. Documenting and Reporting (10 Points)

Applicants should outline their strategy for documenting and reporting the activities undertaken during the life of the Cooperative Agreement for ODEP's use. In evaluating this section, the following factors must be addressed and ODEP considers them to be of particular importance:

(1) The method by which the initiative will evaluate external technical assistance information and materials to ensure a high standard of quality about effective strategies suitable for replication or testing in other settings;

(2) The extent to which the methods of documentation and reporting include the objective use of performance measures that are clearly related to the intended outcomes of the project and will produce quantitative and qualitative data; and

(3) The adequacy of mechanisms for measuring the quality of products and services developed by the proposed initiative.

3. Anticipated Announcement and Award Dates

N/A.

VI. Award Administration Information

1. Award Notices

A. Notice that an organization has been selected as the cooperative agreement recipient does not constitute approval of the cooperative agreement application as submitted. Before the actual cooperative agreement award, ODEP may enter into negotiations concerning such items as program components, funding levels, and administrative systems. If the negotiations do not result in an acceptable submittal, the Grant Officer reserves the right to terminate the negotiation and decline to fund the proposal.

B. A post-award conference will be held within the first month of the award, for the cooperative agreement award winner, in Washington, DC, with ODEP and other DOL representatives. The associated travel cost for this two-day meeting should be included as a part of their budget proposal. Both program and administrative matters will be reviewed. As a continuation of the post-award process, after this first meeting with DOL, CHETA will immediately organize and fund through its budget, a meeting for teams from each of the five “Chronic Homelessness” cooperative agreement sites, as described in Section I and V, above. This two-day post award meeting shall be held in Portland, OR (or one of the other five sites), and shall involve 4 to 5 representatives from each of the five cooperative agreement sites. In addition to supporting the travel and participation costs (hotel lodging, meeting space, per diem, travel costs) of these five teams, several key experts on customized employment, chronic homelessness should be provided for in the proposed budget. The purpose of this post award meeting is to both involve the five cooperative agreement awardees in the formation of CHETA's technical assistance plans and to provide the five sites with an opportunity for sharing and additional technical assistance.

2. Administrative and National Policy

A. Limitations on Administrative and Indirect Costs

(1) Indirect costs claimed by the applicant must be based on a federally approved rate. A copy of the negotiated approved, and signed indirect cost negotiated agreement must be submitted with the application.

(2) If the applicant does not presently have an approved indirect cost rate, a proposed rate with justification may be submitted. The successful applicant will be required to negotiate an acceptable and allowable rate with the appropriate DOL Regional Office of Cost Determination within 90 days of the cooperative agreement award.

B. Administrative Standards and Provisions

Unless specifically provided in the cooperative agreement, DOL's acceptance of a proposal and an award of Federal funds to sponsor any program(s) does not provide a waiver of any grant/cooperative agreement requirements and/or procedures. For example, the OMB circulars require and an entity's procurement procedures must provide that all procurement transactions will be conducted, as practical, to provide open and free competition. If a proposal identifies a specific entity to provide the services, the DOL award does not provide the justification or basis to sole-source the procurement, i.e. avoid competition. This cooperative agreement will be subject to the following administrative standards and provisions:

• 29 CFR part 93—Lobbying.

• 29 CFR part 95—Uniform Administrative Requirements for Grants and Agreements With Institutions of Higher Education, Hospitals, and Other Non-Profit Organizations, and With Commercial Organizations, Foreign Governments, Organizations Under the Jurisdiction of Foreign Governments, and International Organizations;

• 29 CFR part 96—Federal Standards for Audit of Federally Funded Grants, Contracts, and Other Agreements;

• 29 CFR part 97—Uniform Administrative Requirement for Grants and Cooperative Agreements to State and Local Governments;

• 29 CFR part 98—Federal Standards for Government-wide Debarment and Suspension (non-procurement) and Government-wide Requirements for Drug Free Workplace (Grants/Cooperative Agreements);

• 29 CFR part 99—Audit of States, Local Governments and Non-profit Organizations;

• 29 CFR parts 30, 31, 32, 33, and 36—Equal Employment Opportunity in Apprenticeship and Training, Nondiscrimination in Federally Assisted Programs of the Department of Labor, Effectuation of Title VI of the Civil Rights Act of 1964, Nondiscrimination on the Basis of Handicap in Programs and Activities, and Nondiscrimination on the Basis of Sex in Education Programs Receiving or Benefiting from Federal Financial Assistance.

C. Allowable Costs

Determinations of allowable costs shall be made in accordance with the following applicable federal cost principles:

• State and Local Government—OMB Circular A-87.

• Nonprofit Organizations—OMB Circular A-122.

• Profit-Making Commercial Firms—48 CFR Part 31.

Profit will not be considered an allowable cost in any case.

D. Cooperative Agreement Assurances

As a condition of the award, the applicant must certify that it will comply fully with the nondiscrimination and equal opportunity provisions of the following laws:

• 29 CFR part 31—Nondiscrimination in Federally-assisted programs of the Department of Labor, effectuation of Title VI of the Civil Rights Act of 1964;

• 29 CFR part 32—Nondiscrimination on the Basis of Disability in Programs and Activities Receiving or Benefiting from Federal Assistance (Implementing Section 504 of the Rehabilitation Act, 29 U.S.C. 794);

• 29 CFR part 36—Nondiscrimination on the Basis of Sex in Education Programs or Activities Receiving Federal Financial Assistance (Implementing Title IX of the Education Amendments of 1972, 20 U.S.C. 1681 et seq.); and

The applicant must include assurances and certifications that it will comply with these laws in its Cooperative Agreement application. The assurances and certifications are attached as Appendices C, D.

3. Reporting and Monitoring

The ODEP is responsible for ensuring the effective implementation of this Cooperative Agreement, in accordance with the provisions of this announcement and the terms of the Cooperative Agreement award document. Applicants should assume that ODEP staff will conduct on-site project reviews periodically. Reviews will focus on timely project implementation, performance in meeting the Cooperative Agreement's objectives, tasks and responsibilities, expenditures of Cooperative Agreement funds on allowable activities, and administration of project activities. The CHETA Initiative may be subject to other additional reviews, at the discretion of the ODEP, and ODEP staff or their announced designees from ETA, VETS and/or HUD may conduct these reviews

The DOL Cooperative Agreement awardee, under this competition, will be required to submit to DOL quarterly financial and narrative program progress reports for each quarter funded. The awardee will be required to submit periodic financial and participation reports. Specifically, the following reports will be required:

A. Quarterly reports: The quarterly report is estimated to take ten hours to complete. The form for the Quarterly Report will be provided by the ODEP. The ODEP will work with the awardee to help refine the requirements of the report, which will, among other things, include measures of ongoing analysis for continuous improvement and customer satisfaction. Quarterly reports will be due 30 days after the close of the quarters of each federal fiscal year. This report will be filed using an on-line reporting system.

B. Standard Form 269: Financial Status Report Form (FSR) will be completed on a quarterly basis, using the on-line electronic reporting system.

C. Final Project Report: The final report will include an assessment of project performance and outcomes achieved. The final report is estimated to take 20 hours to complete. This report will be submitted in hard copy and on electronic disk complying with format and instructions provided by the ODEP. An outline of the final report is due to ODEP forty-five (45) days before termination of the Cooperative Agreement with a draft of the final report due to the ODEP thirty (30) days before the termination of the Cooperative Agreement. The final report is due to the DOL within 30 days following the termination of the Cooperative Agreement. If the two option years are exercised, the final report will be due upon their completion.

The awardee must agree to cooperate with independent evaluations to be conducted by ODEP. ODEP or its designee will arrange for and conduct this independent evaluation of the outcomes, impact, and accomplishments of the project. The awardee must agree to make available records on all parts of project activity, including participant employment and wage data, and to provide access to personnel, as specified by the evaluator(s), under the direction of the ODEP. This independent evaluation is separate from the any proposed ongoing evaluation for continuous improvement commissioned by the awardee. ODEP's evaluation of the CHETA award includes a process evaluation regarding extensive information pertaining to achievements under the Cooperative Agreement.

VII. Agency Contacts

For information on this DOL Cooperative Agreement and related items contact Cassandra Mitchell, U.S. Department of Labor, Procurement Services Center telephone (202) 693-4570 (this is not a toll-free number), prior to the closing deadline. Persons who are deaf or hard of hearing may contact Cassandra Mitchell, via the Federal Relay Service, (800) 877-8339.

Signed in Washington, DC, this 2nd day of June, 2004.
Johnny A. Arnold, II,
Acting Grant Officer.

BILLING CODE 4510-CX-P

[FR Doc. 04-13116 Filed 6-9-04; 8:45 am]

BILLING CODE 4510-CX-C